DEPARTMENT OF THE INTERIOR

Bureau of Land Management

[NM-910-01-1020-PB]

New Mexico Resource Advisory Council Meeting

AGENCY: The Bureau of Land Management, Department of the Interior.

ACTION: Notice of council meeting.

SUMMARY: In accordance with the Federal Land Policy and Management Act and the Federal Advisory Committee Act of 1972 (FACA), 5 U.S.C. Appendix 1, The Department of the Interior, Bureau of Land Management (BLM), announces a meeting of the New Mexico Resource Advisory Council (RAC). The meeting will be held on June 7 and 8, 2001, at the Holiday Inn Santa Fe, 4048 Cerrillos Road, Santa Fe, New Mexico, 87505.

There will be an optional all day field trip on Wednesday, June 6, 2001. Transportation will be provided for RAC members. The optional field trip will be organized by the Albuquerque and Taos Field Offices of the BLM. The field trip will leave from the Holiday Inn at 8:30 a.m.

The meeting on Thursday, June 7, 2001, will start at 8 a.m. and will end about 5 p.m. The draft agenda for the RAC meeting includes agreement on the meeting agenda, any RAC comments on the draft minutes of the last RAC Meeting which was held on April 4 through 6, 2001, in Carlsbad, New Mexico, and a check-in from the RAC members. The focus of the meeting will be on Off Highway Vehicle issues and Energy issues. Presentations will include discussion.

The three established RAC Subcommittees may have late afternoon or evening meetings on Wednesday, June 6, after the optional field trip, or on Thursday, June 7, after the meeting. The exact time and location of possible subcommittee meetings will be established by the Chairperson of each subcommittee and be available to the public following the field trip on Wednesday, June 6, and during the RAC meeting on Thursday, June 7, for that evening. That information will also be available at the desk of the Holiday Inn on those two days. On Friday, June 8, the meeting starts at 8 a.m. and will end about 3 p.m. The ending time of 3 p.m. may be changed depending on the work remaining for the RAC.

The meeting is open to the public, and starting at 2:45 p.m. on Thursday, June 6, 2001, there will be an additional 15 minute Public Comment Period for members of the public who are not able to be present for the regular Public Comment Period on Friday, June 8, to address the RAC.

The meeting on Friday, April 6, will start at 8 a.m. with a review of the agenda thus far. RAC Subcommittee Reports are scheduled from the Urban and Open Space Subcommittee, the Roads and Trails Subcommittee, and the Energy Subcommittee at various times throughout the two day meeting.

The regular Public Comment Period for the Public to address the RAC is on Friday, June 8, 2001, from 10 a.m. to 12 noon. The RAC may reduce or extend the end time of 12 noon depending on the number of people wishing to address the RAC. Anyone wishing to address the RAC should be present at the 10 a.m. starting time. The length of time available for each person to address the RAC will be established at the start of the public comment period and will depend on how many people wish to address the RAC, but usually not more than 15 minutes. At the completion of public comments, the RAC may continue discussion of its agenda items.

BLM State of the Field Office Reports, presented by the Field Office Managers, will be scheduled at various times during the 2 day meeting.

RAC discussions any any RAC recommendations are scheduled for 2:45 p.m. followed by a RAC assessment of the current meeting and development of draft agenda items and selection of a location for the next RAC meeting.

FOR FURTHER INFORMATION CONTACT: Mary White, New Mexico State Office, Office of External Affairs, Bureau of Land Management, 1474 Rodeo Road, P.O. Box 27115, Santa Fe, New Mexico 87502-0115, telephone (505) 438-7404.

SUPPLEMENTARY INFORMATION: The purpose of the Resource Advisory Council is to advise the Secretary of the Interior, through the BLM, on a variety of planning and management issues associated with the management of public lands. The Council's responsibilities include providing advice on long-range planning, establishing resource management priorities and assisting the BLM to identify State and regional standards for rangeland health and guidelines for grazing management.

Dated: April 24, 2001.
Richard Whitley,
Associate State Director.

[FR Doc. 01-12509 Filed 5-17-01; 8:45 am]

BILLING CODE 4310-FB-M